ENVIRONMENTAL PROTECTION AGENCY

[FRL-6897-3]

Proposed CERCLA Administrative Agreements; Cannons Engineering Corporation Superfund Sites

AGENCY: Environmental Protection Agency.

ACTION: Notice; request for public comment.

SUMMARY: In accordance with section 122(i) of the Comprehensive Environmental Response, Compensation, and Liability Act, as amended (“CERCLA”), 42 U.S.C. 9622(i), notice is hereby given of two proposed administrative agreements for recovery of past and projected future response costs at four Superfund sites. The agreements resolve claims of the Environmental Protection Agency (“EPA”) against the settling parties under sections 106 and 107(a) of CERCLA, 42 U.S.C. 9606 and 9607(a), and section 7003 of the Resource Conservation and Recovery Act, as amended (“RCRA”), 42 U.S.C. 6973. The settling parties are the United States Navy (“Navy”) and the United States Coast Guard (“Coast Guard”). The four Superfund sites are the Cannons Engineering Corporation Site in Bridgewater, Massachusetts; the Cannons Engineering/Plymouth Harbor Site in Plymouth, Massachusetts; the Gilson Road Site in Nashua, New Hampshire; and the Tinkham's Garage Site in Londonderry, New Hampshire. The Commonwealth of Massachusetts and the State of New Hampshire are also parties to these agreements.

The Navy is a larger volume Potentially Responsible Party (“PRP”). Under the agreement with the Navy, the Navy will pay a total of approximately $2,850,000, of which $1,578,912 will be paid to the Hazardous Substance Superfund, $39,000 will be paid to the Commonwealth of Massachusetts, and $1,232,088 will be paid to the State of New Hampshire. The Navy will also pay interest on these amounts, accruing as of December 14, 1998. With respect to one of the four Sites, EPA retains its right to pursue its claims against the Navy at the Nashua Site if costs at that Site exceed a specified amount.

The Coast Guard is a de minimis PRP. Under this de minimis agreement with the Coast Guard, the Coast Guard will pay a total of approximately $207,562.82, of which $172,587.64 will be paid to the Hazardous Substance Superfund, $28,940.35 will be paid to the Commonwealth of Massachusetts, and $6,034.83 will be paid to the State of New Hampshire. The Coast Guard will also pay interest on these amounts, accruing as of November 24, 1999. Under this agreement, the Department of the Interior and the National Oceanic and Atmospheric Administration agree not to bring claims under CERCLA against the Coast Guard for natural resource damages with respect to these Sites.

For thirty (30) days following the date of publication of this notice, EPA will receive written comments relating to these two agreements. EPA will consider all comments received and may modify or withdraw its consent to these agreements if comments received disclose facts or considerations which indicate that the agreements are inappropriate, improper, or inadequate. EPA's response to any comments received will be available for public inspection at the EPA Records Center, 1 Congress Street, Boston, MA 02114-2023 (Telephone No. 617-918-1440). Commenters may request an opportunity for a public meeting in the affected areas in accordance with section 7003(d) of RCRA, 42 U.S.C. 6973(d).

DATES: Comments and requests for a public meeting in the affected areas must be submitted on or before December 6, 2000.

ADDRESSES: The proposed agreements are available for public inspection at the EPA Records Center, 1 Congress Street, Boston, MA 02114-2023 (Telephone No. 617-918-1440). A copy of the proposed agreements may be obtained from Audrey Zucker, U.S. Environmental Protection Agency, Region 1, One Congress Street, Suite 1100 (SES), Boston, MA 02114-2023, (617) 918-1788. Comments should reference the Cannons Engineering Corporation Superfund Sites and EPA Docket No. 1-2000-0033 (Settling Party: U.S. Navy) or EPA Docket No. 1-2000-0032 (Settling Party: U.S. Coast Guard), and should be addressed to Audrey Zucker, U.S. Environmental Protection Agency, Region 1, One Congress Street, Suite 1100 (SES), Boston, MA 02114-2023.

FOR FURTHER INFORMATION CONTACT: Audrey Zucker, U.S. Environmental Protection Agency, Region 1, One Congress Street, Suite 1100 (SES), Boston, MA 02114-2023, (617) 918-1788.

Dated: August 2, 2000.
Patricia L. Meaney,
Director, Office of Site Remediation and Restoration, EPA-New England.

[FR Doc. 00-28416 Filed 11-3-00; 8:45 am]

BILLING CODE 6560-50-P